DEPARTMENT OF THE INTERIOR

National Park Service

[NPS-WASO-NAGPRA-NPS0040332; PPWOCRADN0-PCU00RP14.R50000]

Notice of Inventory Completion: Bruce Museum, Inc., Greenwich, CT

AGENCY: National Park Service, Interior.

ACTION: Notice.

SUMMARY: In accordance with the Native American Graves Protection and Repatriation Act (NAGPRA), the Bruce Museum has completed an inventory of an associated funerary object and has determined that there is a cultural affiliation between the associated funerary object and Indian Tribes or Native Hawaiian organizations in this notice.

DATES: Repatriation of the associated funerary object in this notice may occur on or after July 11, 2025.

ADDRESSES: Send written requests for repatriation of the associated funerary object in this notice to Kirsten J. Reinhardt, Collections Registrar and NAGPRA Coordinator, Bruce Museum, Inc., 1 Museum Drive, Greenwich, CT 06830, email kreinhardt@brucemuseum.org.

SUPPLEMENTARY INFORMATION: This notice is published as part of the National Park Service's administrative responsibilities under NAGPRA. The determinations in this notice are the sole responsibility of the Bruce Museum, and additional information on the determinations in this notice, including the results of consultation, can be found in its inventory or related records. The National Park Service is not responsible for the determinations in this notice.

Abstract of Information Available

One associated funerary object was recovered from an “old” Native American grave located on the bank of the Connecticut River near Middletown, in Middlesex County, CT in 1870. It was donated to the Bruce Museum in 1919 by Elias Cornelius Benedict. The known historical presence of the Mashantucket Pequot Indian Tribe and the Mohegan Tribe of Indians of Connecticut, in the area now known as the State of Connecticut, combined with the established tribal history and archaeological information, provides a reasonable basis upon which the Bruce Museum has made the determination that the Mashantucket Pequot Indian Tribe and the Mohegan Tribe of Indians of Connecticut have established, with acceptable evidence, cultural affiliation with one AFO having been removed from near the Town of Middletown in Middlesex County, CT. No treatment with hazardous material has been performed.

Cultural Affiliation

Based on the information available and the results of consultation, cultural affiliation is reasonably identified by the geographical location or acquisition history of the associated funerary object described in this notice.

Determinations

The Bruce Museum has determined that:

• The one object described in this notice is reasonably believed to have been placed intentionally with or near individual human remains at the time of death or later as part of the death rite or ceremony.

• There is a connection between the associated funerary object described in this notice and the Mashantucket Pequot Indian Tribe and the Mohegan Tribe of Indians of Connecticut.

Requests for Repatriation

Written requests for repatriation of the associated funerary object in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the associated funerary object described in this notice to a requestor may occur on or after July 11, 2025. If competing requests for repatriation are received, the Bruce Museum must determine the most appropriate requestor prior to repatriation. Requests for joint repatriation of the associated funerary object are considered a single request and not competing requests. The Bruce Museum is responsible for sending a copy of this notice to the Indian Tribes and Native Hawaiian organizations identified in this notice.

Authority: Native American Graves Protection and Repatriation Act, 25 U.S.C. 3003, and the implementing regulations, 43 CFR 10.10.

Dated: May 28, 2025.
Melanie O'Brien,
Manager, National NAGPRA Program.

[FR Doc. 2025-10602 Filed 6-10-25; 8:45 am]

BILLING CODE 4312-52-P